DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Pub. L. 92-463, 86 Stat. 770) requires that public notice of these meetings be announced in the Federal Register.

DATES: Monday, July 23, 2001—6:30 p.m.-9 p.m.; Tuesday, July 24, 2001—8:30 a.m.-4:30 p.m.

ADDRESSES: Holiday Inn-Coliseum at University of South Carolina, 630 Assemble Street, Columbia, South Carolina 29201.

FOR FURTHER INFORMATION CONTACT: Gerri Flemming, Science Technology & Management Division, Department of Energy, Savannah River Operations Office, P.O. Box A, Aiken, SC 29802; Phone: (803) 725-5374.

SUPPLEMENTARY INFORMATION: Purpose of the Board: The purpose of the Board is to make recommendations to the Department of Energy and its regulators in the areas of environmental restoration, waste management, and related activities.

Tentative Agenda:

Monday, July 23, 2001

6:30 p.m.-7 p.m.—Public comment session

7 p.m.-9 p.m—Issues-based committee meetings

9 p.m.—Adjourn

Tuesday, July 24, 2001

8:30-9:15 a.m.—Approval of minutes; Agency updates; Public comment session; Facilitator update

9:15-10:15 a.m.—Nuclear Materials Committee Report

10:15-11:15 a.m.—Environmental Remediation Committee

11:15-12:15 a.m.—Education Committee; Public Comments

12:15 p.m.—Lunch Break

1-2:45 p.m.—Waste Management Committee Report

2:45-4:15 p.m.—Strategic & Long-Term Issues Committee

4:15-4:30 p.m.—Administrative Committee Report; Public Comments

4:30 p.m.—Adjourn

If needed, time will be allotted after public comments for items added to the agenda, and administrative details. A final agenda will be available at the meeting Monday, July 23, 2001.

Public Participation: The meeting is open to the public. Written statements may be filed with the Board either before or after the meeting. Individuals who wish to make the oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday through Friday, except Federal holidays. Minutes will also be available by writing to Gerri Flemming, Department of Energy Savannah River Operations Office, PO Box A, Aiken, SC 29802, or by calling her at (803) 725-5374.

Issued at Washington, DC on June 22, 2001.
Belinda Hood,
Acting Deputy Advisory Committee Management Officer.

[FR Doc. 01-16263 Filed 6-27-01; 8:45 am]

BILLING CODE 6450-01-P